DEPARTMENT OF ENERGY

Federal Energy Regulatory Commission

[Project No. 3472-024]

Aspinook Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: P-3472-024.

c. Date filed: April 30, 2020.

d. Applicant: Aspinook Hydro, LLC.

e. Name of Project: Wyre Wynd Hydroelectric Project.

f. Location: On the Quinebaug River in New London and Windham Counties, Connecticut. No federal lands are occupied by the project works or located within the project boundary.

g. Filed Pursuant to: Federal Power Act 16 U.S.C. 791(a)-825(r).

h. Applicant Contact: Mark Boumansour, Chief Operating Officer, Gravity Renewables, Inc., 1401 Walnut Street, Boulder, CO 80302; Phone at (303) 440-3378, or email at mark@gravityrenewables.com.

i. FERC Contact: Dr. Nicholas Palso at (202) 502-8854, or nicholas.palso@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 70 days from the date of filing of the application, and serve a copy of the request on the applicant.

l. Deadline for filing additional study requests and requests for cooperating agency status: July 9, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. Project Description: The existing Wyre Wynd Hydroelectric Project consists of: (1) A concrete-encased masonry dam that includes the following sections: (a) A 473-foot-long, 19-foot-high spillway section with a crest elevation of 95.3 feet National Geodetic Vertical Datum of 1929 (NGVD) and 2-foot-high flashboards at an elevation of 97.3 feet NGVD at the top of the flashboards; (b) a left abutment section; and (c) a right abutment section; (2) a 333-acre impoundment with a normal elevation of 97.3 feet NGVD; (3) a 100-foot-long, 25-foot-wide headgate structure with five 10.5-foot-wide, 11.5-foot-high sluice gates; (4) a 170-foot-long, 50-foot-wide forebay with five 13-foot-high, 9.5-foot-wide flood gates, a 110-foot-long overflow weir, and two 13-foot-high, 9.5-foot-wide low-level outlet gates; (5) a powerhouse intake structure located at the downstream end of the forebay that includes: (a) A 38.2-foot-long, 20- to 21.3- foot-wide trashrack with 2.6-inch clear-bar spacing; (b) a 16-foot-long, 12-foot-diameter steel penstock that provides flow to a 2.7-megawatt (MW) S-type Kaplan turbine-generator unit located inside of a 75-foot-long, 30-foot-wide concrete powerhouse; and (c) a 450-foot-long, 60-foot-wide tailrace; (6) a minimum flow unit intake structure that branches off of the right side of forebay approximately 35 feet downstream of the headgate structure, and that includes: (a) A 20-foot-long, 9-foot-wide trashrack with 1.5-inch clear-bar spacing; (b) a 40-foot-long, 4-foot-diameter steel penstock that provides flow to a 0.08-megawatt (MW) propeller-type turbine-generator unit located outside; and (c) a 10-foot-long, 30-foot-wide tailrace; (7) two generator leads connecting the turbine-generator units to the local electric distribution system; and (8) appurtenant facilities. The project creates an approximately 400-foot-long bypassed reach of the Quinebaug River.

The current license requires an instantaneous minimum flow of 120 cubic feet per second (cfs), or the inflow, whichever is less, downstream of the dam to protect fish and wildlife resources in the Quinebaug River.

The project had an average annual generation production of approximately 11,000,000 kilowatt-hours from 2003 through 2015.

Aspinook proposes to: (1) Operate the project in run-of-river mode; (2) provide an 84-cfs minimum flow to the bypassed reach; and (3) provide upstream and downstream fish passage.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3472). At this time, the Commission has suspended access to the Commission's Public Reference Room due to the proclamation declaring a National Emergency concerning the Novel Coronavirus Disease (COVID-19), issued by the President on March 13, 2020. For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—July 2020

Request Additional Information—July 2020

Issue Acceptance Letter—October 2020

Issue Scoping Document 1 for comments—November 2020

Request Additional Information (if necessary)—January 2021

Issue Scoping Document 2—February 2021

Issue Notice of Ready for Environmental Analysis—February 2021

Commission issues Environmental Assessment—August 2021

Final amendments to the application must be filed with the Commission no later than 30 days from the issuance date of the notice of ready for environmental analysis.

Dated: May 14, 2020.
Kimberly D. Bose,
Secretary.

[FR Doc. 2020-10843 Filed 5-19-20; 8:45 am]

BILLING CODE 6717-01-P